DEPARTMENT OF THE INTERIOR

Fish and Wildlife Service

Catahoula National Wildlife Refuge

AGENCY: Fish and Wildlife Service, Interior.

ACTION: Notice of availability of the Final Comprehensive Conservation Plan for Catahoula National Wildlife Refuge in LaSalle and Catahoula Parishes, Louisiana.

SUMMARY: The Fish and Wildlife Service announces that a Final Comprehensive Conservation Plan (CCP) and Finding of No Significant Impact (FONSI) for Catahoula National Wildlife Refuge is available for distribution. The CCP was prepared pursuant to the National Wildlife Refuge System Improvement Act of 1997, and in accordance with the National Environmental Policy Act of 1969, and describes how the refuge will be managed for the next 15 years. The compatibility determinations for hunting, fishing, wildlife observation, wildlife photography, environmental education and interpretation, all-terrain vehicle use, cooperative farming, and resource research studies, are also available within the plan.

ADDRESSES: A copy of the CCP/FONSI may be obtained by writing to: Catahoula National Wildlife Refuge, P.O. Drawer Z, Rhinehart, LA 71363. The CCP/FONSI may also be accessed and downloaded from the Service's Web site: http://southeast.fws.gov/planning/.

FOR FURTHER INFORMATION CONTACT: Tina Chouinard, Natural Resource Planner, North Louisiana National Wildlife Refuge Complex; Telephone: 318/305-0643; Fax: 318/726-4667; e-mail: tina_chouinard@fws.gov; or by writing to the refuge manager at the address in the ADDRESSES section.

SUPPLEMENTARY INFORMATION: With this notice, we finalize the CCP process for Catahoula National Wildlife Refuge, begun as announced in the Federal Register on March 2, 2005 (70 FR 10109). For more about the process, see that notice. We released the Draft Comprehensive Conservation Plan and Environmental Assessment (Draft CCP/EA) to the public, requesting comments in a notice of availability in the Federal Register on April 19, 2007 (72 FR 19719).

The plan and environmental assessment identified and evaluated three alternatives for managing the refuge over the next 15 years. Alternative A represents no change from current management of the refuge. All management actions would be directed towards achieving the refuge's primary purposes, which include: (1) To provide migrating and wintering habitat for migratory waterfowl consistent with the overall objectives of the Mississippi Flyway; (2) to provide nesting habitat for wood ducks; (3) to provide habitat and protection for threatened and endangered species; and (4) to manage bottomland hardwoods and provide habitat for a natural wildlife diversity. Under Alternative B, the refuge would add more staff, equipment, and facilities in order to provide greater enhancement and management of bottomland hardwood forest, grassland, and moist-soil habitats for the greatest benefit of wildlife. The primary focus under Alternative C would be to maximize the endemic bottomland hardwood forest with minimal management. Under this alternative, there would be no active management of refuge resources.

Based on the environmental assessment and the comments received, the Service adopted Alternative B as its preferred alternative. This alternative was considered to be the most effective for meeting the purposes of the refuge by conserving, restoring, and managing the bottomland hardwood forest, grassland, and moist-soil habitats and associated wildlife. Alternative B best achieves national, ecosystem, and refuge-specific goals and objectives and positively addresses significant issues and concerns expressed by the public.

Catahoula National Wildlife Refuge was established in 1958, primarily as a wintering area for migratory waterfowl. The refuge, located in east-central LaSalle Parish and west-central Catahoula Parish, Louisiana, about 30 miles northeast of Alexandria and 12 miles east of Jena, now totals 25,242 acres. The 6,671-acre Headquarters Unit borders nine miles of the northeast shore of Catahoula Lake, a 26,000-acre natural wetland renowned for its large concentrations of migratory waterfowl. The 18,571-acre Bushley Bayou Unit, located 8 miles west of Jonesville, was established in May 2001. The acquisition was made possible through a partnership agreement between The Conservation Fund, American Electric Power, and the Fish and Wildlife Service. The refuge consists of a complex of bottomland hardwood forests, moist-soil areas, and dirt access roads and trails. The six priority public uses of the refuge are fishing, hunting, wildlife photography, wildlife observation, and environmental education and interpretation.

Authority: This notice is published under the authority of the National Wildlife Refuge System Improvement Act of 1997, Public Law 105-57.

Dated: August 16, 2007.
Cynthia K. Dohner,
Acting Regional Director.

Editorial Note: This document was received at the Office of the Federal Register on January 2, 2008.

[FR Doc. E8-4 Filed 1-4-08; 8:45 am]

BILLING CODE 4310-55-P